DEPARTMENT OF AGRICULTURE

Submission for OMB Review; Comment Request

October 23, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by November 26, 2018 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: 7 CFR part 220, School Breakfast Program.

OMB Control Number: 0584-0012.

Summary of Collection: Section 4 of the Child Nutrition Act (CNA) of 1966 (42 U.S.C. 1773) authorizes the School Breakfast Program as a nutrition assistance program and authorizes payments to States to assist them to initiate, maintain, or expand nonprofit breakfast programs in schools. The provision requires that “Breakfasts served by schools participating in the School Breakfast Program under this section shall consist of a combination of foods and shall meet minimum nutritional requirements prescribed by the Secretary on the basis of tested nutritional research.” The School Breakfast Program is administered and operated in accordance with the National School Lunch Act (NSLA). The Program is administered at the State and school food authority (SFA) levels and the operations include the submission and approval of applications, execution of agreements, submission of claims, payment of claims, monitoring, and providing technical assistance.

Need and Use of the Information: States, SFAs, and schools are required to keep accounts and records as may be necessary to enable FNS to determine whether the program is in compliance. SFAs collect breakfast counts from the schools so that they can submit claims and related information to the State agencies. The State agencies then report this information to FNS. The State agencies, the SFAs, and the schools also maintain records related to the School Breakfast Program. FNS uses the information to monitor State agency and SFA compliance, determine the amount of funds to be reimbursed, evaluate and adjust program operations, and to monitor program funding and program trends.

Description of Respondents: State, Local, or Tribal Government.

Number of Respondents: 110,268.

Frequency of Responses: Recordkeeping; Reporting: On occasion; Monthly.

Total Burden Hours: 3,857,770.

Ruth Brown,
Departmental Information Collection Clearance Officer.

[FR Doc. 2018-23462 Filed 10-25-18; 8:45 am]

BILLING CODE 3410-30-P